DEPARTMENT OF THE TREASURY

Internal Revenue Service

Internal Revenue Service Advisory Council; Meeting

AGENCY: Internal Revenue Service, Department of Treasury.

ACTION: Notice of meeting.

SUMMARY: The Internal Revenue Service Advisory Council (IRSAC) will hold a public meeting on Wednesday, November 18, 2020.

FOR FURTHER INFORMATION CONTACT: Ms. Stephanie Burch, Office of National Public Liaison, at 202-317-4219 or send an email to PublicLiaison@irs.gov.

SUPPLEMENTARY INFORMATION: Notice is hereby given pursuant to section 10(a) (2) of the Federal Advisory Committee Act, 5 U.S.C. App. (1988), that a public meeting of the IRSAC will be held on Wednesday, November 18, 2020, from 9:00 a.m. to 12:00 p.m. Eastern Time. The meeting will be held by conference call. To register to attend and for call-in instructions, members of the public may contact Ms. Stephanie Burch at 202-317-4219 or send an email to PublicLiaison@irs.gov. Issues to be discussed may include, but are not limited to: Taxpayer First Act; Accelerating electronic filing and electronic signature options; IRS need for adequate funding; Taxpayer Digital Communications; Business identity theft; Paperwork reduction; Taxpayer responsibility to update mailing address; Employer tax forms and reporting; IRS efficiencies through a newly proposed early exam program; Dispute resolution programs; Alternative withholding statement language in Form W-8IMY certifications; Proposed lag method regulations—Form 1042-S filing deadlines; Regulations impacting tax information reporting; Volunteer Income Tax Assistance (VITA) programs and other services for Indian tribal governments (ITGs); Compliance Assurance Program (CAP) for ITGs; Cooperatives seeking to terminate tax exempt status; and Relief for employee plans in times of national emergency. Last-minute agenda changes may preclude advance notice. Attendees are encouraged to call in at least 5-10 minutes before the meeting begins. Should you wish the IRSAC to consider a written statement, please send an email to PublicLiaison@irs.gov.

Dated: October 26, 2020.
John Lipold,
Branch Chief, IRS Office of National Public Liaison, IRSAC Designated Federal Official.

[FR Doc. 2020-23995 Filed 10-28-20; 8:45 am]

BILLING CODE 4830-01-P